DEPARTMENT OF ENERGY

Federal Energy Regulatory Commission

[Docket No. CP05-361-000]

Freeport LNG Development, L.P.; Notice of Availability of the Draft Conformity Determination for the Freeport LNG Project

December 22, 2005.

The staff of the Federal Energy Regulatory Commission (FERC or Commission) has prepared this Draft General Conformity Determination to assess the potential air quality impacts associated with the construction and operation of additional facilities proposed by Freeport LNG Development, L.P. (Freeport LNG) that would be installed at its authorized liquefied natural gas (LNG) terminal facilities on Quintana Island, Brazoria County, Texas.

This Draft General Conformity Determination was prepared to satisfy the requirements of the Clean Air Act.

Comment Procedures

Any person wishing to comment on this Draft General Conformity Determination may do so. To ensure consideration of your comments in the Final General Conformity Determination, it is important that we receive your comments before the date specified below. Please carefully follow these instructions to ensure that your comments are received in time and properly recorded:

• Send an original and two copies of your comments to: Magalie R. Salas, Secretary, Federal Energy Regulatory Commission, 888 First St., NE., Room 1A, Washington, DC 20426;

• Reference Docket No. CP05-361-000;

• Label one copy of your comments for the attention of Gas Branch 2; PJ11.2; and

• Mail your comments so that they will be received in Washington, DC on or before February 7, 2006.

Please note that we are continuing to experience delays in mail deliveries from the U.S. Postal Service. The Commission strongly encourages electronic filing of any comments on this Draft General Conformity Determination. See 18 CFR 385.2001(a)(1)(iii) and the instructions on the Commission's Web site at http://www.ferc.gov under the “e-Filing” link and the link to the User's Guide. Before you can file comments you will need to create a free account which can be created online.

After all comments are reviewed, the staff will publish and distribute a Final General Conformity Determination for the Project.

Magalie R. Salas,
Secretary.

[FR Doc. E5-8171 Filed 12-30-05; 8:45 am]

BILLING CODE 6717-01-P